DEPARTMENT OF COMMERCE

National Oceanic and Atmospheric Administration

RIN 0648-XX57

Fisheries of the Pacific Region; Western Pacific Region

AGENCY: National Marine Fisheries Service (NMFS), National Oceanic and Atmospheric Administration (NOAA), Commerce.

ACTION: Notification of determination of overfishing or an overfished condition.

SUMMARY: This action serves as a notice that NMFS, on behalf of the Secretary of Commerce (Secretary), has determined that Pacific bluefin tuna, (Thunnus orientalis) which is jointly managed by the Pacific Fishery Management Council (Pacific Council) and the Western Pacific Fishery Management Council (Western Pacific Fishery Management Council (Western Pacific Council), is subject to overfishing.

NMFS notifies the appropriate fishery management council (Council) whenever it determines that; overfishing is occurring, a stock is in an overfished condition, or a stock is approaching an overfished condition.

FOR FURTHER INFORMATION CONTACT: Mark Nelson, (301) 713-2341.

SUPPLEMENTARY INFORMATION: Pursuant to sections 304(e)(2) and (e)(7) of the Magnuson-Stevens Fishery Conservation and Management Act (MSA), 16 U.S.C. 1854(e)(2) and (e)(7), and implementing regulations at 50 CFR 600.310(e)(2), NMFS, on behalf of the Secretary, notifies Councils whenever it determines; a stock or stock complex is approaching an overfished condition, a stock or stock complex is overfished, or existing action taken to prevent previously identified overfishing or rebuilding a previously identified overfished stock or stock complex has not resulted in adequate progress. NMFS also notifies Councils when it determines a stock or stock complex is subject to overfishing.

On April 7, 2011, NMFS informed both the Pacific Council and the Western Pacific Council that the Southwest Fisheries Science Center had found that overfishing is occurring on Pacific bluefin tuna. However, their analysis found that the stock was not in an overfished condition.

Pacific bluefin tuna is considered to be a single North Pacific-wide stock. Its conservation and management are the responsibility of the Western and Central Pacific Fisheries Commission and the Inter-American Tropical Tuna Commission. The United States is a member of both regional fishery management organizations. Although both regional fisheries management organizations have internationally agreed upon management measures in place for bluefin tuna, these measures are inadequate to end overfishing for the purposes of the MSA and its implementing regulations. Therefore, the Councils are not required to prepare an FMP amendment to end overfishing, but must undertake action under MSA section 304(i)(2). This section requires the Council, or the Secretary, to develop domestic regulations to address the relative impact or the domestic fishing fleet; and to develop recommendations for the Secretary of State, and to Congress, to address international actions to end overfishing.

Dated: May 11, 2011.
Emily H. Menashes,
Acting Director, Office of Sustainable Fisheries, National Marine Fisheries Service.

[FR Doc. 2011-12054 Filed 5-16-11; 8:45 am]

BILLING CODE 3510-22-P